DEPARTMENT OF HEALTH AND HUMAN SERVICES

National Committee on Vital and Health Statistics: Meeting

Pursuant to the Federal Advisory Committee Act, the Department of Health and Human Services announces the following advisory committee meeting.

Name: National Committee on Vital and Health Statistics (NCVHS), Subcommittee on Populations—Working Group on Quality.

Time and Date: 9 a.m.-4 p.m., July 25, 2002.

Place: Hotel Monaco, 225 North Wabash, Chicago, IL, (312) 960-8500.

Status: Open.

Purpose

The purpose of the meeting is to provide the NCVHS Work Group on Quality with expert opinion and information about the adequacy of existing health data systems for supporting quality measurement at the individual practitioner level and to identify needed improvements in existing data and data collection mechanisms. The scope of interest includes administrative data, vital records data, medical records data and survey data. At the meeting, an invited panel of experts will provide their perspectives on these issues.

In addition, the Work Group will hear from invited panels of experts about topic areas to be included in the National Healthcare Quality Report, including the Preliminary Measure Set for the report now under development within the Agency for Healthcare Research and Quality. The AHRQ Preliminary Measure Set will be available on the AHRQ website after July 12. The Institute of Medicine has recommended a framework and criteria for selecting measures for the National Healthcare Quality Report, and AHRQ has prepared a draft list of proposed topic areas and measures to be included. Information about the AHRQ Preliminary Measure Set may be obtained by contacting: Ed Kelly, Ph.D., Senior Service Fellow, National Healthcare Quality Report, Center for Quality Improvement and Patient Safety, Agency for Healthcare Research and Quality, 6011 Executive Boulevard, Suite 200, Rockville, MD 20852, ekelly@ahrq.gov

FOR FURTHER INFORMATION CONTACT: Substantive program information as well as summaries of meetings and a roster of NCVHS Committee members may be obtained from Stanely Edinger Ph.D., Lead Staff Person for the NCVHS Subcommittee on Special Populations, Working Group on Quality, Agency for Healthcare Research and Quality, 6011 East Jefferson Street, Suite 200, #106, Rockville, MD 20852, telephone (301) 594-1598; or Marjorie S. Greenberg, Executive Secretary, NCVHS, NCHS, CDC, Room 1100, Presidential Building, 6525 Belcrest Road, Hyattsville, Maryland 20782, telephone (301) 458-4245. Information also is available on the NCVHS home page of the HHS website: http://aspe.os.dhhs.gov/ncvhs, where an agenda for the meeting will be posted when available.

Dated: July 3, 2002.
James Scanlon,
Director, Division of Data Policy, Office of the Assistant Secretary for Planning and Evaluation.

[FR Doc. 02-17292 Filed 7-9-02; 8:45 am]

BILLING CODE 4151-05-M